DEPARTMENT OF ENERGY

Federal Energy Regulatory Commission

Combined Notice of Filings #1 Take Notice That the Commission Received the Following Electric Corporate Filings:

Docket Numbers: EC15-168-000.

Applicants: Blue Cube Operations LLC.

Description: Application for Authorization Under Section 203 of the Federal Power Act and Request for Expedited Action of Blue Cube Operations LLC.

Filed Date: 7/14/15.

Accession Number: 20150714-5176.

Comments Due: 5 p.m. ET 8/4/15.

Docket Numbers: EC15-169-000.

Applicants: MDU Resources Group, Inc., Thunder Spirit Wind, LLC, Ace Wind LLC.

Description: Application of MDU Resources Group, Inc., et al. for Authorization Under Section 203 of the Federal Power Act for Disposition of Jurisdiction Facilities and Request for Expedited Consideration and Confidential Treatment.

Filed Date: 7/14/15.

Accession Number: 20150714-5180.

Comments Due: 5 p.m. ET 8/4/15.

Take notice that the Commission received the following exempt wholesale generator filings:

Docket Numbers: EG15-102-000.

Applicants: Grant Wind, LLC.

Description: Notice of Self-Certification of Exempt Wholesale Generator Status of Grant Wind, LLC.

Filed Date: 7/14/15.

Accession Number: 20150714-5137.

Comments Due: 5 p.m. ET 8/4/15.

Docket Numbers: EG15-103-000.

Applicants: McCoy Solar, LLC.

Description: Notice of Self-certification of Exempt Wholesale Generator Status of McCoy Solar, LLC.

Filed Date: 7/14/15.

Accession Number: 20150714-5138.

Comments Due: 5 p.m. ET 8/4/15.

Docket Numbers: EG15-104-000.

Applicants: Javelina Wind Energy, LLC.

Description: Notice of Self-certification of Exempt Wholesale Generator Status of Javelina Wind Energy, LLC.

Filed Date: 7/14/15.

Accession Number: 20150714-5139.

Comments Due: 5 p.m. ET 8/4/15.

Take notice that the Commission received the following electric rate filings:

Docket Numbers: ER14-2138-002.

Applicants: Limon Wind III, LLC.

Description: Supplement to January 8, 2015 Notice of Non-Material Change in Status of Limon Wind III, LLC.

Filed Date: 7/10/15.

Accession Number: 20150710-5256.

Comments Due: 5 p.m. ET 7/31/15.

Docket Numbers: ER15-511-001.

Applicants: NorthWestern Corporation.

Description: Compliance filing: Compliance Filing—NAESB v003 WEQ Business Practice Standards to be effective 5/15/2015.

Filed Date: 7/15/15.

Accession Number: 20150715-5049.

Comments Due: 5 p.m. ET 8/5/15.

Docket Numbers: ER15-533-001.

Applicants: Public Service Company of New Mexico.

Description: Compliance filing: Compliance Filing to Order No. 676-H Compliance Filing to be effective 5/15/2015.

Filed Date: 7/15/15.

Accession Number: 20150715-5031.

Comments Due: 5 p.m. ET 8/5/15.

Docket Numbers: ER15-1400-001.

Applicants: Erie Power, LLC.

Description: Tariff Amendment: Erie Power Market Based Rate Tariff Supplement to be effective 6/1/2015.

Filed Date: 6/22/15.

Accession Number: 20150622-5074.

Comments Due: 5 p.m. ET 7/29/15.

Docket Numbers: ER15-1706-001.

Applicants: Newark Energy Center, LLC.

Description: Tariff Amendment: Response to Deficiency Letter to be effective 7/1/2015.

Filed Date: 7/15/15.

Accession Number: 20150715-5022.

Comments Due: 5 p.m. ET 8/5/15.

Docket Numbers: ER15-1831-001.

Applicants: AEP Texas Central Company.

Description: Tariff Amendment: TCC-TNC-Brazos Electric Power Cooperative Amend & Restated TSA Amd to be effective 5/5/2015.

Filed Date: 7/15/15.

Accession Number: 20150715-5024.

Comments Due: 5 p.m. ET 8/5/15.

Docket Numbers: ER15-1832-001.

Applicants: AEP Texas North Company.

Description: Tariff Amendment: TCC-TNC-Brazos Electric Cooperative Amend & Restated TSA Concurrence Amd to be effective 5/5/2015.

Filed Date: 7/15/15.

Accession Number: 20150715-5025.

Comments Due: 5 p.m. ET 8/5/15.

Docket Numbers: ER15-2205-000.

Applicants: Prairie Breeze Wind Energy III LLC.

Description: Baseline eTariff Filing: Application for Market-Based Rate Application to be effective 9/14/2015.

Filed Date: 7/15/15.

Accession Number: 20150715-5027.

Comments Due: 5 p.m. ET 8/5/15.

Docket Numbers: ER15-2205-001.

Applicants: Prairie Breeze Wind Energy III LLC.

Description: Tariff Amendment: Supplement to Market-Based Rate Application to be effective 9/14/2015.

Filed Date: 7/15/15.

Accession Number: 20150715-5039.

Comments Due: 5 p.m. ET 8/5/15.

Docket Numbers: ER15-2206-000.

Applicants: PJM Interconnection, L.L.C.

Description: Tariff Cancellation: Notice of Cancellation of WMPA SA No. 3336; Queue No. X2-059 to be effective 7/15/2015.

Filed Date: 7/15/15.

Accession Number: 20150715-5047.

Comments Due: 5 p.m. ET 8/5/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 15, 2015.
Nathaniel J. Davis, Sr.,
Deputy Secretary.

[FR Doc. 2015-17798 Filed 7-20-15; 8:45 am]

BILLING CODE 6717-01-P